DEPARTMENT OF COMMERCE

Foreign-Trade Zones Board

[S-88-2016]

Approval of Subzone Expansion; Tesla Motors, Inc.; Palo Alto and Fremont, California

On June 15, 2016, the Executive Secretary of the Foreign-Trade Zones (FTZ) Board docketed an application submitted by the City of San Jose, California, grantee of FTZ 18, requesting expanded subzone status subject to the existing activation limit of FTZ 18, on behalf of Tesla Motors, Inc. (Subzone 18G), in Fremont, California.

The application was processed in accordance with the FTZ Act and Regulations, including notice in the Federal Register inviting public comment (81 FR 40850, June 23, 2016). The FTZ staff examiner reviewed the application and determined that it meets the criteria for approval. Pursuant to the authority delegated to the FTZ Board Executive Secretary (15 CFR Sec. 400.36(f)), the application to expand Subzone 18G is approved, subject to the FTZ Act and the Board's regulations, including Section 400.13, and further subject to FTZ 18's 2,000-acre activation limit.

Dated: September 29, 2016.
Andrew McGilvray,
Executive Secretary.

[FR Doc. 2016-24094 Filed 10-4-16; 8:45 am]

BILLING CODE 3510-DS-P